DEPARTMENT OF TRANSPORTATION

Federal Aviation Administration

[Summary Notice No. PE-2018-17]

Petition for Exemption; Summary of Petition Received; Textron Aviation Inc.

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before April 2, 2018.

ADDRESSES: Send comments identified by docket number FAA-2018-0095 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-673, Federal Aviation Administration, 1601 Lind Avenue SW, Renton, WA 98057-3356, phone 425-227-2148, email deana.stedman@faa.gov; or Alphonso Pendergrass, ARM-200, Office of Rulemaking, Federal Aviation Administration, 800 Independence Avenue SW, Washington, DC 20591, phone 202-267-4713, email Alphonso.Pendergrass@faa.gov.

This notice is published pursuant to 14 CFR 11.85.

Issued in Renton, Washington, on March 6, 2018.
Suzanne Masterson,
Acting Manager, Transport Standards Branch.

Petition for Exemption

Docket No.: FAA-2018-0095.

Petitioner: Textron Aviation Inc.

Section(s) of 14 CFR Affected: § 25.981(b).

Description of Relief Sought: Petitioner is seeking relief from 14 CFR 25.981(b), which states no fuel tank fleet average flammability exposure on an airplane may exceed three percent of the flammability exposure evaluation time (FEET) as defined in appendix N to part 25, or that of a fuel tank within the wing of the airplane model being evaluated, whichever is greater. If the wing is not a conventional unheated aluminum wing, the analysis must be based on an assumed equivalent conventional unheated aluminum wing tank. Specifically, petitioner requests relief for the center portion of the wing fuel tank that is covered by an aerodynamic fairing on the Textron Aviation Model 700 airplane.

[FR Doc. 2018-04852 Filed 3-9-18; 8:45 am]

BILLING CODE 4910-13-P